DEPARTMENT OF HEALTH AND HUMAN SERVICES

Centers for Disease Control and Prevention

[60 Day-03-25]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-D24, Atlanta, GA 30333. Written comments should be received within 60 days of this notice.

Proposed Project

Reducing the Risk of Zoonotic Disease Transmission In Venues Where the Public Has Contact With Animals: A Survey of Current Practices—New—National Center for Infectious Diseases (NCID), Centers for Disease Control and Prevention. The purpose of this project is reduce transmission of zoonotic disease to those persons who interact with farm animals in a number of different settings. Though most of these interactions probably do not result in human illness, several recent outbreaks have highlighted the potential danger of infectious disease transmission in venues where the public comes into contact with animals and their environment. A large outbreak of E. coli O157:H7 infections among visitors to a petting zoo in Pennsylania in 2000 prompted CDC to develop recommendations to address this issue. Several large outbreaks of E. coli O157:H7 have also occurred at county fairs from persons being exposed to animals and their environment. No state or federal laws exist that deal specifically with public health issues relating to interactions between the public and farm animals.

The proposed study consists of a self-administered, written questionnaire mailed to petting zoos and fairs (state, regional, and county). The survey asks individuals to describe their zoo or fair's current practices regarding human interaction with animals, food and beverage consumption in relation to animal interaction areas, and handwashing facilities. The list of zoos comes from facilities licensed by the U.S. Department of Agriculture to show animals for commercial purposes. The list of fairs comes from the International Association of Fairs and Expositions, a private trade organization that volunteered to participate with CDC in having its members complete this survey. Study objectives are to describe current practices and to determine how CDC, other federal agencies, and non-governmental organizations can best educate zoos and fairs about safe animal-human interaction. There is no cost to respondents.

Survey | No. of respondents | No. of responses/ respondent | Average burden/ response (in hours) | Total burden (in hours)
Written Questionnaire | 1400 | 1 | 10/60 | 233
Total |  |  |  | 233

Dated: December 19, 2002.
Nancy E. Cheal,
Acting Associate Director for Policy, Planning and Evaluation, Centers for Disease Control and Prevention.

[FR Doc. 02-32519 Filed 12-24-02; 8:45 am]

BILLING CODE 4163-18-P